DEPARTMENT OF HEALTH AND HUMAN SERVICES

National Institutes of Health

National Institute of General Medical Sciences; Amended Notice of Meeting

Notice is hereby given of a change in the meeting of the Training and Workforce Development Study Section-D, October 12, 2023, 09:30 a.m.-05:00 p.m., National Institutes of Health, National Institute of General Medical Sciences, Natcher Building, 45 Center Drive, Bethesda, Maryland 20892, which was published in the Federal Register on September 19, 2023, FR Doc. 2023-20244, 88 FR 64447.

This notice is being amended to change the name of the committee from Training and Workforce Development Study Section-D to Review of U-RISE and MARC Applications. Meeting date, time, and location will stay the same. The meeting is closed to the public.

Dated: October 5, 2023.
Miguelina Perez,
Program Analyst, Office of Federal Advisory Committee Policy.

[FR Doc. 2023-22514 Filed 10-12-23; 8:45 am]

BILLING CODE 4140-01-P